DEPARTMENT OF HEALTH AND HUMAN SERVICES

Centers for Disease Control and Prevention

Request for Nominations of Candidates to Serve on the Breast and Cervical Cancer Early Detection and Control Advisory Committee (BCCEDCAC)

The Centers for Disease Control and Prevention (CDC) is soliciting nominations for membership on the BCCEDCAC. The BCCEDCAC provides advice and guidance to the Secretary, the Assistant Secretary for Health, and the CDC on the early detection and control of breast and cervical cancer. The role of the BCCEDCAC is to provide advice and make recommendations regarding national program goals and objectives; implementation strategies; program priorities, including surveillance, epidemiologic investigations, education and training, information dissemination, professional interactions and collaborations, and policy.

Nominations are being sought for individuals who have expertise and qualifications necessary to contribute to the accomplishments of the committee's objectives. Nominees will be selected based on expertise in the field of medicine, including public health, behavioral science, epidemiology, radiology, pathology, clinical medical care, health education, and surveillance. Members may be invited to serve for four-year terms.

The next cycle of selection of candidates will begin in the Winter of 2011, for selection of potential nominees to replace members whose terms will end on March 31, 2012 and March 31, 2013 respectively. Selection of members is based on candidates' qualifications to contribute to the accomplishment of BCCEDCAC objectives (http://www.cdc.gov/maso/FACM/facmBCCEDCAC.htm). The U.S. Department of Health and Human Services policy stipulates that committee membership shall be balanced in terms of professional training and background, points of view represented, and the committee's function. Consideration is given to a broad representation of geographic areas within the U.S., with diverse representation of both genders, ethnic and racial minorities, and persons with disabilities. Nominees must be U.S. citizens, and cannot be full-time employees of the U.S. Government.

Candidates should submit the following items:

• Current curriculum vitae or resume, including complete contact information (telephone numbers, fax number, mailing address, e-mail address).

• At least one letter of recommendation from a person(s) not employed by the U.S. Department of Health and Human Services. Candidates may submit letter(s) from current HHS employees if they wish, but at least one letter must be submitted by a person not employed by HHS.

Nominations should be submitted (postmarked or received) by October 1, 2011.

• Electronic submission: You may submit nominations, including attachments, electronically to JBlackmon@cdc.gov.

• Regular, Express or Overnight Mail: Written nominations may be submitted to the following addressee only: Ms. Jameka Reese Blackmon, M.B.A., C.M.P., c/o BCCEDCAC Secretariat, Centers for Disease Control and Prevention, 4770 Buford Highway, NE., Mailstop K-57, Atlanta, Georgia 30341, Telephone and facsimile submissions cannot be accepted.

Nominations may be submitted by the candidate or by the person/organization recommending the candidate.

Candidates invited to serve will be asked to submit the “Confidential Financial Disclosure Form for Special Government Employees Serving on Federal Advisory Committees at the Centers for Disease Control and Prevention.” This form allows CDC to determine whether there is a statutory conflict between that person's public responsibilities as a Special Government Employee and private interests and activities, or the appearance of a lack of impartiality, as defined by Federal regulation. The form may be viewed and downloaded at http://www.usoge.gov/forms/oge450_pdf/oge450_accessible.pdf.

This form should not be submitted as part of a nomination.

The Director, Management Analysis and Services Office, has been delegated the authority to sign Federal Register notices pertaining to announcements of meetings and other committee management activities for both the Centers for Disease Control and Prevention, and the Agency for Toxic Substances and Disease Registry.

Dated: September 2, 2011.
Catherine Ramadei,
Acting Director, Management Analysis and Services Office, Centers for Disease Control and Prevention.

[FR Doc. 2011-23122 Filed 9-8-11; 8:45 am]

BILLING CODE 4163-18-P